FEDERAL EMERGENCY MANAGEMENT AGENCY

44 CFR Part 65

[Docket No. FEMA-D-7517]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Acting Executive Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act

This rule is categorically excluded from the requirements of 44 CFR part 10, Environmental Consideration. No environmental impact assessment has been prepared.

Regulatory Flexibility Act

The Acting Administrator, Federal Insurance and Mitigation Administration, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, floodplains, reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Connecticut: Fairfield | Town of Greenwich | November 15, 2001, November 22, 2001, Greenwich Times | Ms. Lolly H. Prince, First Selectman of the Town of Greenwich, 101 Field Point Road, Greenwich, Connecticut 06830 | Nov. 5, 2001 | 090008 D&E
Florida:
Lee | Unincorporated Areas | September 27, 2001, October 4, 2001, News-Press | Mr. Doug St. Cerny, Chairman of the Lee County, Board of County Commissioners, P.O. Box 398, Fort Myers, Florida 33902 | Sept. 20, 2001 | 125124 E
Leon | City of Tallahassee | September 28, 2001, October 5, 2001, Tallahassee Democrat | The Honorable Scott Maddox, Mayor of the City of Tallahassee, 300 South Adams Street, Tallahassee, Florida 32301-1731 | Jan. 4, 2002 | 120144 D
Georgia:
Bibb and Jones | City of Macon | September 25, 2001, October 4, 2001, The Macon Telegraph | The Honorable Jack Ellis, Mayor of the City of Macon, 700 Poplar Street, Macon, Georgia 31201 | Jan. 1, 2002 | 130011 D
Gwinnett | Unincorporated Areas | September 27, 2001, October 4, 2001, Gwinnett Daily Post | Mr. Wayne Hill, Chairman of the Gwinnett County Board of Commissioners, Justice and Administration Center, 75 Langley Drive, Lawrenceville, Georgia 30045 | Sept. 20, 2001 | 130322 D
Maine:
York | Town of Alfred | September 27, 2001, October 4, 2001, The Sanford News | Mr. Perley Yeaton, Chairperson of the Board of Selectmen for the Town of Alfred, P.O. Box 667, Alfred, Maine 04001 | Sept. 19, 2001 | 230191 C
Knox | Town of St. George | October 18, 2001, October 25, 2001, Courier-Gazette | Mr. John Falla, St. George Town Manager, P.O. Box 131, Tenants Harbor, Maine 04860 | Oct. 12, 2001 | 230229 C
Maryland:
Frederick | Unincorporated Areas | November 14, 2001, November 21, 2001, Frederick News Post | Mr. Ron Hart, Frederick County Manager, 12 East Church Street, Frederick, Maryland 21701 | Oct. 30, 2001 | 240027 B
Frederick | City of Frederick | November 14, 2001, November 21, 2001, Frederick News Post | The Honorable James Grimes, Mayor of the City of Frederick, 101 North Court Street, Frederick, Maryland 21701 | Oct. 30, 2001 | 240030 B
Michigan: Wayne | Township of Canton | October 18, 2001, October 25, 2001, The Observer & Eccentric | Mr. Thomas J. Yack, Township of Canton Supervisor, 1150 South Canton Center Road, Canton, Michigan 48188 | Jan. 24, 2002 | 260219 B
New Jersey: Cape May | City of North Wildwood | October 10, 2001, October 17, 2001, The Leader | The Honorable Aldo A. Palombo, Mayor of the City of North Wildwood, Municipal Building, 901 Atlantic Avenue, North Wildwood, New Jersey 08260 | Sept. 19, 2001 | 345308 E
New York: Monroe | Town of Greece | November 29, 2001, December 6, 2001, Greece Post | Mr. John Auberger, Supervisor of the Town of Greece, One Vince Tofany Boulevard, Rochester, New York 14616 | May 2, 2002 | 360417 E
Ohio: Warren | City of Mason | September 5, 2001, September 12, 2001, Pulse-Journal | The Honorable John McCurley, Mayor of the City of Mason, 202 West Main Street, Mason, Ohio 45040 | Aug. 30, 2001 | 390559 C
Puerto Rico:
| Commonwealth | October 5, 2001, October 12, 2001, The San Juan Star | The Honorable Sila Maria Calderon, Governor of the Commonwealth of Puerto Rico, P.O. Box 82, La Fortaleza, San Juan, Puerto Rico 00901 | Jan. 11, 2002 | 720000 D
| Commonwealth | October 12, 2001, October 19, 2001, San Juan Star | The Honorable Sila Maria Calderon, Governor of the Commonwealth of Puerto Rico, P.O. Box 82, La Fortaleza, San Juan, Puerto Rico 00901 | Jan. 18, 2002 | 720000 B&C
| Commonwealth | October 12, 2001, October 19, 2001, San Juan Star | The Honorable Sila Maria Calderon, Governor of the Commonwealth of Puerto Rico, P.O. Box 82, La Fortaleza, San Juan, Puerto Rico 00901 | Jan. 18, 2002 | 720000 B&C
South Carolina:
Florence | City of Lake City | September 5, 2001, September 12, 2001, The News Journal | Mr. George Simmons, Lake City Administrator, 202 Kelly Street, Lake City, South Carolina 29560 | Dec. 12, 2001 | 450075 D
Florence | Unincorporated Areas | September 5, 2001, September 12, 2001, The News Journal | Mr. Joe King, Florence County Administrator, 180 North Irby Street MSC-G, Florence, South Carolina 29501 | Dec. 12, 2001 | 450079 D
U.S. Virgin Islands | Island of St. Croix | November 1, 2001, November 8, 2001, The Daily News | The Honorable Charles W. Turnbull, Governor of the U.S. Virgin Islands, Government House, 21-22 Kongens Gade, St. Thomas, Virgin Islands 00802 | Oct. 25, 2001 | 78000 D
Virginia:
Fauquier | Unincorporated Areas | October 18, 2001, October 25, 2001, Fauquier Citizen | Mr. G. Robert Lee, Fauquier County Administrator, 40 Culpeper Street, Warrenton, Virginia 20186 | Jan. 24, 2002 | 510055 A
Henrico | Unincorporated Areas | October 26, 2001, November 1, 2001, The Richmond Times | Mr. Richard Glover, Chairman of the Henrico County, Board of Supervisors, P.O. Box 27032, Richmond, Virginia 23273 | Oct. 12, 2001 | 510077 B

(Catalog of Federal Domestic Assistance No. 83.100, “Flood Insurance.”)
Dated: December 11, 2001.
Robert F. Shea,
Acting Administrator, Federal Insurance and Mitigation Administration.

[FR Doc. 01-31030 Filed 12-17-01; 8:45 am]

BILLING CODE 6718-04-P